DEPARTMENT OF THE INTERIOR

Bureau of Land Management

[UTU 010084]

Public Land Order No. 7504; Partial Revocation of Public Land Order No. 1775; Utah

AGENCY: Bureau of Land Management, Interior.

ACTION: Public land order.

SUMMARY: This order partially revokes a public land order insofar as it affects 200 acres of National Forest System lands withdrawn for Panguitch Lake Administrative Site and Panguitch Lake Recreation Area. The withdrawal is no longer needed on the 200 acres. The lands will be opened to mining and to such forms of disposition as may by law be made of National Forest System lands.

EFFECTIVE DATE: February 11, 2002.

FOR FURTHER INFORMATION CONTACT: Lori Blickfeldt, Forest Service, Intermountain Region, 324-25th Street, Ogden, Utah 84401-2310, 801-625-5163.

SUPPLEMENTARY INFORMATION: By virtue of the authority vested in the Secretary of the Interior by Section 204 of the Federal Land Policy and Management Act of 1976, 43 U.S.C. 1714 (1994), it is ordered as follows:

1. Public Land Order No. 1775 is hereby revoked insofar as it affects the following described lands:

Dixie National Forest

Salt Lake Meridian

T. 36 S., R. 7 W.,

Sec. 4, NW¼SW¼;

Sec. 5, SW¼SE¼SE¼SW¼, N½SE¼SE¼SW¼, NE¼SE¼SW¼, N½NW¼SW¼SE¼, NW¼NE¼SW¼SE¼, and NE¼SE¼; Sec. 8, S½S½NW¼NE¼, S½SE¼NE¼NW¼, W½NE¼NW¼, E½NW¼NW¼, and SW¼NW¼.

The areas described aggregate 200 acres in Garfield County.

2. At 10 a.m. on February 11, 2002, the lands shall be opened to such forms of disposition as may by law be made of National Forest System lands, including location and entry under the United States mining laws, subject to valid existing rights, the provisions of existing withdrawals, other segregations of record, and the requirements of applicable law. Appropriation of lands described in this order under the general mining laws prior to the date and time of restoration is unauthorized. Any such attempted appropriation, including attempted adverse possession under 30 U.S.C. 38 (1994), shall vest no rights against the United States. Acts required to establish a location and to initiate a right of possession are governed by State law where not in conflict with Federal law. The Bureau of Land Management will not intervene in disputes between rival locators over possessory rights since Congress has provided for such determinations in local courts.

Dated: October 15, 2001.
J. Steven Griles,
Deputy Secretary.

[FR Doc. 02-591 Filed 1-9-02; 8:45 am]

BILLING CODE 3410-11-P